SECURITIES AND EXCHANGE COMMISSION

[File No. 500.1]

In the Matter of Certain Companies Quoted on the Pink Sheets: Amerossi EC, Inc., Irwin Resources, Inc., Peopleline Telecom, Inc.; Order of Suspension of Trading

April 13, 2007.

It appears to the Securities and Exchange Commission that there is a lack of current and accurate information concerning the securities of the issuers listed below. As set forth below for each issuer, questions have arisen regarding the adequacy and accuracy of publicly disseminated information concerning, among other things: (1) The companies' assets, (2) the companies' business operations, (3) the companies' current financial condition, and/or (4) financing arrangements involving the issuance of the companies' shares.

1. Amerossi EC, Inc. is a Wyoming company with offices in Bangkok, Thailand. Questions have arisen regarding the adequacy and accuracy of press releases concerning the company's operations.

2. Irwin Resources, Inc., is a Delaware company with offices in Vancouver, British Columbia, Canada. Questions have arisen regarding the adequacy and accuracy of press releases concerning the company's current financial condition, management, operations, and transactions involving the issuance of the company's shares.

3. Peopleline Telecom, Inc. is a Nevada company based in Los Angeles, California. Questions have arisen regarding the adequacy and accuracy of press releases concerning the company's operations and concerning stock promoting activity.

The Commission is of the opinion that the public interest and the protection of investors require a suspension of trading in the securities of the companies listed above.

Therefore, it is ordered, pursuant to Section 12(k) of the Securities Exchange Act of 1934, that trading in the securities of the companies listed above is suspended for the period from 9:30 a.m. EDT, April 13, 2007, through 11:59 p.m. EDT, on April 26, 2007.

By the Commission.
J. Lynn Taylor,
Assistant Secretary.

[FR Doc. 07-1913 Filed 4-13-07; 12:56 pm]

BILLING CODE 8010-01-P